DEPARTMENT OF AGRICULTURE

Submission for OMB Review; Comment Request

August 25, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Phytosanitary Export Certification.

OMB Control Number: 0579-0052.

Summary of Collection: The Animal & Plant Health Inspection Service (APHIS) among other things provides export certification services to assure other countries that the plants and plant products they are receiving from the United States are free of plant pests specified by the receiving country. The Federal Plant Pest Act authorizes the Department to carry out this mission. APHIS will collect information using several forms.

Need and Use of the Information: APHIS will use the information collected to locate shipments, guide inspection, and issue a certificate to meet the requirements of the importing country. Failure to provide this information would have an impact on many U.S. exporters who would no longer be able to engage in the business of exporting plants and plant products overseas.

Description of Respondents: Business or other for-profit; State, Local or Tribal Government.

Number of Respondents: 14,900.

Frequency of Responses: Recordkeeping; Reporting: On occasion.

Total Burden Hours: 1,775,880.

Animal Plant and Health Inspection Service

Title: Foreign Animal Disease (Emerging Disease Investigation (FAD/ED) Database).

OMB Control Number: 0579-0071.

Summary of Collection: Title 7, U.S.C. 8301, The Animal Health Protection Act, authorizes the Secretary to prevent, control, and eliminate contagious, infectious, and communicable diseases. Through the Foreign Animal Disease Surveillance Program, the Animal and Plant Health Inspection Service (APHIS) compiles essential epidemiological and diagnostic data that are used to define foreign animal diseases (FAD) and their risk factors. The data is compiled through the Veterinary Services Emergency Management Response System, a Web-based database for reporting investigations of suspected FAD occurrences.

Need and Use of the Information: APHIS collects information such as the purpose of the diagnostician's visit to the site, the name and address of the owner/manager, the type of operation being investigated, the number of and type of animals on the premises, whether any animals have been moved to or from the premises and when this movement occurred, number of sick or dead animals, the results of physical examinations of the affected animals, the results of postmortem examinations, and the number and kinds of samples taken, and the name of the suspected disease. This information assists APHIS personnel in detecting and eradicating foreign animal disease incursions. Without the information, APHIS has no way to detect and monitor foreign animal disease outbreaks in the United States.

Description of Respondents: Farms; State, Local or Tribal Government.

Number Of Respondents: 2,640.

Frequency Of Responses: Reporting: On occasion.

Total Burden Hours: 2,640.

Animal and Plant Health Inspection Service

Title: ISA—Payment of Indemnity.

OMB Control Number: 0579-0192.

Summary of Collection: Federal regulation contained in 9 CFR Subchapter B governs cooperative programs to control and eradicate communicable diseases of livestock from the United States. Infectious Salmon Anemia (ISA) poses a substantial threat to the economic viability and sustainability of salmon aquaculture in the United States and abroad. ISA is the clinical disease resulting from infection with the ISA virus; signs include hemorrhaging, anemia, and lethargy. The Animal and Plant Health Inspection Service (APHIS) will collect information using VS Form 1-22 ISA Program Enrollment Form and VS Form 1-23 All Species Appraisal & Indemnity Claim Form.

Need and Use of the Information: Each program participant must sign an ISA Program Enrollment Form in which they agree to participate fully in USDA's and the State of Maine's ISA Program. APHIS will collect the owner's name and address, the number of fish for which the owner is seeking payment, and the appraised value of each fish. The owner must also certify as to whether the fish are subject to a mortgage. Without the information it would be impossible for APHIS to launch its program to contain and prevent ISA outbreaks in the United States.

Description of Respondents: Business or other for-profit.

Number of Respondents: 2.

Frequency of Responses: Recordkeeping; Reporting: On occasion.

Total Burden Hours: 644.

Ruth Brown,
Departmental Information Collection Clearance Officer.

[FR Doc. E8-20059 Filed 8-28-08; 8:45 am]

BILLING CODE 3410-34-P